DEPARTMENT OF LABOR

Employee Benefits Security Administration

Revision of a Currently Approved Information Collection Request Submitted for Public Comment; EBSA Participant Assistance Program Customer Survey

AGENCY: Employee Benefits Security Administration, Department of Labor.

ACTION: Notice.

SUMMARY: The Department of Labor (the Department), in accordance with the Paperwork Reduction Act of 1995, provides the general public and Federal agencies with an opportunity to comment on proposed and continuing collections of information. This helps the Department assess the impact of its information collection requirements and minimize the public's reporting burden. It also helps the public understand the Department's information collection requirements and provide the requested data in the desired format. The Employee Benefits Security Administration (EBSA) is soliciting comments on the proposed information collection request (ICR) described below. A copy of the ICRs may be obtained by contacting the office listed in the ADDRESSES section of this notice.

DATES: Written comments must be submitted to the office shown in the ADDRESSES section on or before September 20, 2021.

ADDRESSES: James Butikofer, Department of Labor, Employee Benefits Security Administration, 200 Constitution Avenue NW, N-5718, Washington, DC 20210, or ebsa.opr@dol.gov.

SUPPLEMENTARY INFORMATION: This notice requests public comment on the Department's revision of a currently approved collection of information regarding a customer survey that solicits inquirers' feedback on the applicability and utility of EBSA's Participant Assistance Program. A summary of the ICR and the current burden estimates follows:

Agency: Employee Benefits Security Administration (EBSA), Department of Labor.

Title: EBSA Participant Assistance Program Customer Survey.

OMB Number: 1210-0161.

Respondents: (Annual) 11,200.

Number of Annual Responses: 11,200.

Total Annual Burden Hours: 1,867 hours.

Total Annual Costs: $0.

Description: The demographic questions in the EBSA Participant Assistance Program Customer Survey are being updated in response to Executive Order 13985—Advancing Racial Equity and Support for Underserved Communities Through the Federal Government.¹ The new demographic survey information will be used to provide additional training to EBSA benefits advisors in order to better serve the underserved populations that the Department assists.

¹ Presidential Documents, 86 FR 7009 (Jan. 25, 2021).

The Participant Assistance Program Customer Survey collects customer satisfaction data for a sample of private citizens who call into the participant assistance program to ask about their private sector employer provided benefits such as pensions, retirement savings, and health benefits. Three types of callers are queried: (1) Those who need benefit claim assistance; (2) those who have a valid benefit claim; and (3) those who have an invalid benefit claim. The results of the survey are analyzed to provide actionable data that could be used to improve program performance. Examples of improved performance that may result from that study include, but are not limited to:

• Being more attuned to inquirers' needs—Benefits Advisors should be more adept at identifying issues that lead to benefits recoveries and enforcement leads

• Survey data will enable National and Regional management to identify potential training needs

• Satisfaction scores will guide EBSA leadership to determine which Regions need assistance improving customer service

• Scores on individual BAs will reveal high performers and allow the agency to use those BAs' techniques as best practices for program-wide improvement.

The study will include survey data from regional offices in Atlanta, Boston, Chicago, Cincinnati, Dallas, Kansas City, Los Angeles, New York, Philadelphia and San Francisco and District offices in Miami, Seattle and Washington.

Focus of Comments

The Department is particularly interested in comments that:

• Evaluate whether the collections of information are necessary for the proper performance of the functions of the agency, including whether the information will have practical utility;

• Evaluate the accuracy of the agency's estimate of the collections of information, including the validity of the methodology and assumptions used;

• Enhance the quality, utility, and clarity of the information to be collected; and

• Minimize the burden of the collection of information on those who are to respond, including through the use of appropriate automated, electronic, mechanical, or other technological collection techniques or other forms of information technology, e.g., by permitting electronic submissions of responses.

• Evaluate the effectiveness of the additional demographic questions.

Comments submitted in response to this notice will be summarized and/or included in the ICR for OMB approval of the information collection; they will also become a matter of public record.

Signed at Washington, DC, this 14th day of July, 2021.
Ali Khawar,
Acting Assistant Secretary, Employee Benefits Security Administration, U.S. Department of Labor.

[FR Doc. 2021-15457 Filed 7-20-21; 8:45 am]

BILLING CODE 4510-29-P